DEPARTMENT OF JUSTICE

[OMB Number 1121-0255]

Agency Information Collection Activities; Proposed Collection; Comments Requested: Reinstatement, With Change, of a Previously Approved Collection for Which Approval Has Expired; 2012 Census of Law Enforcement Training Academies

ACTION: 60-day notice of information collection under review.

The Department of Justice (DOJ), Office of Justice Programs, Bureau of Justice Statistics, will be submitting the following information collection request to the Office of Management and Budget (OMB) for review and approval in accordance with the Paperwork Reduction Act of 1995. The proposed information collection is published to obtain comments from the public and affected agencies. Comments are encouraged and will be accepted for 60 days until April 29, 2013. This process is conducted in accordance with 5 CFR 1320.10.

If you have additional comments especially on the estimated public burden or associated response time, suggestions, or need a copy of the proposed information collection instrument with instructions or additional information, please contact Brian A. Reaves, Statistician, Bureau of Justice Statistics, 810 Seventh Street NW., Washington, DC 20531 (phone: 202-616-3287).

Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection for which approval has expired.

2. The Title of the Form/Collection: 2012 Census of Law Enforcement Training Academies (CLETA).

3. The agency form number, if any, and the applicable component of the Department sponsoring the collection: The form numbers is CJ-52. The applicable component within the Department of Justice is the Bureau of Justice Statistics, Office of Justice Programs.

4. Affected public who will be asked or required to respond, as well as a brief abstract: This information collection is a census of regional, state, and local law enforcement training academies that operated a basic training programs during the period 2010-2012. The information will provide national statistics on staff, recruits/trainees, curricula, facilities, and policies of law enforcement training academies.

5. An estimate of the total number of respondents and the amount of time estimated for an average respondent to respond: A projected 700 respondents will take an average of 2 hours each to complete form CJ-52. In addition, 70 respondents of these respondents will be used for reliability testing averaging 1 hour each.

6. An estimate of the total public burden (in hours) associated with the collection: There are an estimated 1,470 total burden hours associated with this collection.

If additional information is required contact: Jerri Murray, Department Clearance Officer, United States Department of Justice, Justice Management Division, Policy and Planning Staff, Two Constitution Square, 145 N Street NE., Suite 3W-1407B, Washington, DC 20530.

Dated: February 21, 2013
Jerri Murray,
Department Clearance Officer for PRA, U.S. Department of Justice.

[FR Doc. 2013-04465 Filed 2-26-13; 8:45 am]

BILLING CODE 4410-18-P